ENVIRONMENTAL PROTECTION AGENCY

[OPP-2003-0337; FRL-7333-9]

Nominations to the FIFRA Scientific Advisory Panel; Request for Comments

AGENCY: Environmental Protection Agency (EPA).

ACTION: Notice.

SUMMARY: This notice provides the names, addresses, professional affiliations, and selected biographical data of persons nominated to serve on the Scientific Advisory Panel (SAP) established under section 25(d) of the Federal Insecticide, Fungicide, and Rodenticide Act (FIFRA). The Panel was created on November 28, 1975, and made a statutory Panel by amendment to FIFRA, dated October 25, 1988. Public comment on the nominations is invited, as these comments will be used to assist the Agency in selecting three new chartered Panel members.

DATES: Comments, identified by docket ID number OPP-2003-0337, must be received on or before December 10, 2003.

ADDRESSES: Comments may be submitted electronically (preferred), through hand delivery/courier, or by mail. Follow the detailed instructions as provided in Unit I. of the SUPPLEMENTARY INFORMATION.

FOR FURTHER INFORMATION CONTACT: Steven Knott, Assistant Executive Secretary, FIFRA SAP Staff (7201M), Office of Science Coordination and Policy, Environmental Protection Agency, 1200 Pennsylvania Ave., NW., Washington, DC 20460-0001; telephone number: (202) 564-8450; fax number: (202) 564-8382; e-mail address: knott.steven@epa.gov.

SUPPLEMENTARY INFORMATION:

I. General Information

A. Does this Action Apply to Me?

This action is directed to the public in general. This action may, however, be of interest to persons who are or may be required to conduct testing of chemical substances under the Federal Food, Drug, and Cosmetic Act (FFDCA), FIFRA, and the Food Quality Protection Act of 1996 (FQPA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2003-0337. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically (preferred), through hand delivery/courier, or by mail. To ensure proper receipt by EPA, identify the appropriate docket ID number in the subject line on the first page of your comment. Please ensure that your comments are submitted within the specified comment period. Comments received after the close of the comment period will be marked “late.” EPA is not required to consider these late comments. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2003-0337. The system is an “anonymous access” system, which means EPA will not know your identity, e-mail address, or other contact information unless you provide it in the body of your comment.

ii. E-mail. Comments may be sent by e-mail to opp-docket@epa.gov, Attention: Docket ID Number OPP-2003-0337. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you hand deliver or send by courier to the address identified in Unit I.C.2. or mail to the mailing address identified in Unit I.C.3. These electronic submissions will be accepted in WordPerfect or ASCII file format. Avoid the use of special characters and any form of encryption.

2. By hand delivery or courier. Deliver your comments to: Public Information and Records Integrity Branch (PIRIB), Office of Pesticide Programs (OPP), Environmental Protection Agency, Rm. 119, Crystal Mall #2, 1921 Jefferson Davis Hwy., Arlington, VA, Attention: Docket ID Number OPP-2003-0337. Such deliveries are only accepted during the docket's normal hours of operation as identified in Unit I.B.1.

3. By mail. Due to potential delays in EPA's receipt and processing of mail, respondents are strongly encouraged to submit comments either electronically or by hand delivery or courier. We cannot guarantee that comments sent via mail will be received prior to the close of the comment period. If mailed, please send your comments to: Public Information and Records Integrity Branch (PIRIB) (7502C), Office of Pesticide Programs (OPP), Environmental Protection Agency, 1200 Pennsylvania Ave., NW., Washington, DC 20460-0001, Attention: Docket ID Number OPP-2003-0337. For questions about delivery options, please contact the person listed under FOR FURTHER INFORMATION CONTACT.

II. Background

Amendments to FIFRA, enacted November 28, 1975, include a requirement under section 25(d) that notices of intent to cancel or reclassify pesticide registrations pursuant to section 6(b)(2), as well as proposed and final forms of rulemaking pursuant to section 25(a), be submitted to a Scientific Advisory Panel prior to being made public or issued to a registrant. In accordance with section 25(d), the Scientific Advisory Panel is to have an opportunity to comment on the health and environmental impact of such actions. The Panel shall also make comments, evaluations, and recommendations for operating guidelines to improve the effectiveness and quality of analyses made by Agency scientists.

In accordance with the statute, the SAP is a permanent panel composed of seven members, selected and appointed by the Deputy Administrator of EPA from nominees submitted by both the National Science Foundation (NSF) and the National Institutes of Health (NIH). The Agency is, at this time, selecting three new members to serve on the panel as a result of membership terms that will expire this year. The Agency requested nominations of experts to be selected from the fields of ecological risk assessment (especially probabilistic ecological risk assessment), human health risk assessment methodology and uncertainty analysis, and veterinary pathology. Nominees should be well published and current in their fields of expertise. The statute further stipulates that we publish the name, address, professional affiliation, and a brief biographical sketch of each nominee in the Federal Register and solicit public comments regarding the candidates nominated.

III. Charter

A Charter for the FIFRA Scientific Advisory Panel, dated October 25, 2002, was issued in accordance with the requirements of the Federal Advisory Committee Act, Public Law 92-463, 86 Stat. 770 (5 U.S.C. App. I). The qualifications of members as provided by the Charter follow.

A. Qualifications of Members

Members are scientists who have sufficient professional qualifications, including training and experience, to be capable of providing expert comments as to the impact on health and the environment of regulatory actions under sections 6(b) and 25(a) of FIFRA. No persons shall be ineligible to serve on the Panel by reason of their membership on any other advisory committee to a Federal department or agency or their employment by a Federal department or agency (except the EPA). The Deputy Administrator appoints individuals to serve on the Panel for staggered terms of 4 years. Panel members are subject to the provisions of 40 CFR part 3, subpart F, Standards of Conduct for Special Government Employees, which include rules regarding conflicts of interest. Each nominee selected by the Deputy Administrator, before being formally appointed, is required to submit a confidential statement of employment and financial interests, which shall fully disclose, among other financial interests, the nominee's sources of research support, if any.

In accordance with section 25(d) of FIFRA, the Deputy Administrator shall require all nominees to the Panel to furnish information concerning their professional qualifications, educational background, employment history, and scientific publications. The Agency is required to publish in the Federal Register the name, address, and professional affiliations of each nominee and to seek public comment on the nominees.

B. Applicability of Existing Regulations

With respect to the requirements of section 25(d) of FIFRA that the Administrator promulgate regulations regarding conflicts of interest, the Charter provides that EPA's existing regulations applicable to special government employees, which include advisory committee members, will apply to the members of the Scientific Advisory Panel. These regulations appear in 40 CFR part 3, subpart F. In addition, the Charter provides for open meetings with opportunities for public participation.

C. Process of Obtaining Nominees

In accordance with the provisions of section 25(d) of FIFRA, EPA in May 2003, requested NIH and NSF to nominate scientists to fill three vacancies occurring on the Panel. The Agency requested nomination of experts in the fields of ecological risk assessment (especially probabilistic ecological risk assessment), human health risk assessment methodology and uncertainty analysis, and veterinary pathology. NIH and NSF responded by letter, providing the Agency with a total of 29 nominees. Fifteen of the 29 nominees are interested and available to actively participate in SAP meetings.

IV. Nominees

The following are the names, addresses, professional affiliations, and selected biographical data of nominees being considered for membership on the FIFRA Scientific Advisory Panel. The Agency seeks to fill three vacancies occurring this year.

A. Nominations for the Field of Ecological Risk Assessment

1. Nominee. Burger, Joanna, Ph.D., Distinguished Professor of Biology, Division of Life Sciences, Rutgers University; Professor in the School of Public Health in New Jersey, Piscataway, NJ.

i. Expertise. Ecotoxicology methods, design, data collection and analysis, ecological risk methods and assessment.

ii. Education. Ph.D., Ecology and Behavioral Ecology, University of Minnesota.

iii. Professional experience. Dr. Burger has had over 30 years of experience in ecological studies of a wide range of animals in their natural environments, and nearly 25 years working in the fields of ecological risk and ecotoxicology. She has served as Director of the Graduate Program in Ecology at Rutgers University for 15 years, and has served as Director of the Chemical Analysis Laboratory for the National Institute of Environmental Health Sciences (NIEHS) Center of Excellence at Rutgers University/University of Medicine and Dentistry of New Jersey (UMDNJ), Robert Wood Johnson Medical School. During this period, she has been actively involved in research on the effects of toxic chemicals on behavior and neurodevelopment, on biomonitoring of toxic chemicals and ecological endpoints, on the risks from chemical contaminants in fish and wildlife, and on developing methods for ecological risk assessment at different levels of ecological complexity. She has published over 350 refereed papers in these areas, and has written or edited over 15 books. Dr. Burger has served as a member of the National Research Council (NRC) Board of Environmental Science and Toxicology, Board on Biology, Commission of Life Sciences and other NRC committees. She also has served on several SCOPE committees, most recently as the Co-Chair of an international meeting on endocrine disruptors. Dr. Burger has served on EPA, U.S. Fish and Wildlife Service, and National Oceanic and Atmospheric Administration (NOAA) advisory councils as well as the New Jersey Endangered and NonGame Species Council. She teaches ecological risk and serves as an environmental advisor to numerous local, State, and Federal agencies.

2. Nominee. James, Margaret O., Ph.D., Professor and Chair, Department of Medicinal Chemistry, College of Pharmacy, University of Florida, Gainesville, FL.

i. Expertise. Xenobiotic metabolism, environmental pollutants.

ii. Education. B.Sc. (Honors), Chemistry, University College London, UK; Ph.D., Organic Chemistry, St. Mary's Hospital Medical School, University of London.

iii. Professional experience. Dr. James completed a 3-year post-doctoral fellowship in the pharmacology branch of the National Institute of Environmental Health Sciences (NIEHS). She was appointed as a research associate, and then a senior staff fellow at the NIEHS satellite laboratory at the Whitney Laboratory in St. Augustine, FL. She has been on the faculty of the Departments of Medicinal Chemistry and Pharmacology and Therapeutics at the University of Florida since 1980. Dr. James also serves as the director of the University of Florida Superfund Basic Research Program project grant. Dr. James is a founding member of the interdisciplinary toxicology graduate program at the University of Florida. She has authored or co-authored over 100 peer reviewed original research papers and several book chapters. Dr. James served on the Environmental Health Sciences review panel from 1991 to 1995, and on the Toxics Advisory Committee, National Marine Fisheries Service, NOAA from 1992 to 1994. She has served as Secretary of the International Society for the Study of Xenobiotics (2000 to 2003) and is a former member of the editorial board of Chemico-Biological Interactions. Dr. James currently serves on the editorial boards of Drug Metabolism and Disposition and Aquatic Toxicology. She is the guest editor of a special volume of Marine Environmental Research to be published in 2004. Dr. James' research interests are in biotransformation pathways involved in the formation or detoxification of chemically reactive metabolites of xenobiotics.

3. Nominee. Portier, Kenneth M., Ph.D., Associate Professor of Statistics and Agricultural Experiment Station Statistician, Institute of Food and Agricultural Sciences, University of Florida, Gainesville, FL.

i. Expertise. Applied statistics, biostatistics, statistical computing, and the teaching of statistics.

ii. Education. B.S., Mathematics, Nicholls State University; M.S., Statistics, University of North Carolina, Chapel Hill; Ph.D. in Biostatistics, University of North Carolina, Chapel Hill.

iii. Professional experience. Dr. Portier has taught statistical methods on the graduate level, and has served as a statistical consultant to researchers in agriculture, natural resources, and the environment at the University of Florida since 1979. His participation in the U.S. Department of Agriculture (USDA) Higher Education Programs (HEP) funded teaching grants has included development of web-based materials for teaching natural resources sampling, and developing a senior graduate course in forested watersheds. Dr. Portier is collaborating with other University of Florida researchers on grants from the NSF, USDA, NOAA, and the Department of Interior (DOI). Dr. Portier has been a regular member of EPA and National Toxicology Program science advisory panels reviewing ecological risks from agriculture-related chemicals and practices. He has co-authored papers in many of the premier journals in agriculture, natural resources, and environmental sciences.

4. Nominee. Regan, Helen M., Ph.D., Assistant Professor, Department of Biology, Ecology Program, San Diego State University, San Diego, CA.

i. Expertise. Ecological risk assessment, quantitative conservation ecology, population models and mathematical treatments of uncertainty in ecological risk assessment.

ii. Education. B.S. (with first-class honors), Applied Mathematics, Latrobe University, Victoria, Australia; Ph.D., Applied Mathematics, University of New England, New South Wales, Australia.

iii. Professional experience. Dr. Regan's research activities include: Treatment of uncertainty in contaminant exposure models for wildlife; population-level ecological risk assessment of endangered and threatened species using stochastic population models; systematic decisionmaking for management and conservation planning; and assessment of uncertainty in endangered species classification protocols. She has held postdoctoral research fellow appointments with the University of Melbourne and the National Center for Ecological Analysis and Synthesis, University of California, Santa Barbara. Dr. Regan has served as a consultant for the Cooperative Research Center for Catchment Hydrology (Australia) and for Forestry Tasmania (Australia). She has served as an invited panelist for the Industrial Risk Management Forum, Environmental Futures Forum (Victorian Environmental Protection Authority, Australia) and as a member of the review team for Improvements in Applications of Models in Ecological Risk Assessment (sponsored by the American Chemistry Council). She is a contributing author to Ecological Modeling in Risk Assessment: Chemical Effects on Populations, Ecosystems, and Landscapes (Pastorok, Bartell, Ferson and Ginzburg, eds.), Lewis publishers, Boca Raton, FL, 2001. She was a scientific reviewer for the US Fish and Wildlife Service Revised Proposal for Critical Habitat for Forty-Seven Plant Species on the Island of Hawaii and served on the scientific review panel for Forest Service Species Viability Assessment Processes at the National Center for Ecological Analysis and Synthesis, University of California, Santa Barbara. In September 2003, she was an invited participant for the Pellston Workshop on Population-Level Ecological Risk Assessment (focus on chemical contaminants), sponsored by the Society for Environmental Toxicology and Chemistry, held in Roskilde, Denmark.

5. Nominee. Scott, Geoffrey I., Ph.D., Acting Director, Charleston Center for Coastal Environmental Health and Biomolecular Research (CCEHBR), National Ocean Services, National Oceanic and Atmospheric Administration, U.S. Department of Commerce, Charleston, SC.

i. Expertise. Aquatic and marine toxicology, ecological assessments of the impacts of agricultural runoff, oil spills, pesticides, bacterial contamination, and water chlorination.

ii. Education. B.S., Biology, Wofford College; M.S. and Ph.D., Marine Science, University of South Carolina.

iii. Professional experience. Dr. Scott's research experience includes working as an Aquatic Toxicologist for the EPA, where he helped develop a suite of rapid assessment indices for assessing ecological damages from oil spills. He has served as a tenured Associate Professor in the School of Public Health at the University of South Carolina (USC) where he received the 1989 Outstanding Young Researcher Award in Public Health. While at USC, most of Dr. Scott's research focused on the impacts of agricultural pesticide non-point source runoff on estuarine ecosystems. Dr. Scott served as Chief of the Marine Ecotoxicology Branch at NOAA CCEHBR from 1993 to 2001. He has collaborated with peers in his discipline to write both the conceptual framework for the Urbanization in the Southeast Estuarine Systems (USES) study, and the conceptual framework for the Land Use Coastal Environmental Study (LUCES). Dr. Scott was appointed by the NOAA Administrator to represent NOAA in a Federal agency task force on endocrine disruptors, culminating in the Raleigh Workshop, where he co-chaired the sessions on neuro-endocrine effects. Dr. Scott has served on numerous government and industry advisory panels, including the EPA advisory board on endocrine disrupting chemicals; EPA's Food Quality Protection Act Science Review Board; the EPA Environmental Technology Verification Program, Water Stakeholder Committee; the South Carolina Coastal Pesticide Advisory Committee; the United Nations Gulf of Guinea Large Marine Ecosystem Team; and the Research Delegation Exchange with the Black Sea Research Institute. Dr. Scott has served as a board member, Vice President, and President of the Carolina Chapter of the Society of Environmental Toxicology and Chemistry. Dr. Scott is also an Associate Professor in the Medical University of South Carolina, the University of Charleston, and an Adjunct Associate Professor in the Institute of Human and Environmental Health, Texas Tech University.

B. Nominations for the Field of Human Health Risk Assessment Methodology and Uncertainty Analysis

1. Nominee. Anderson, Elizabeth L., Ph.D., President and Chief Executive Officer, Sciences International, Inc., Alexandria, VA.

i. Expertise. Risk assessment and carcinogenicity.

ii. Education. B.S., Chemistry, College of William and Mary; M.S., Organic Chemistry, University of Virginia; Ph.D., Organic Chemistry, American University.

iii. Professional experience. Dr. Anderson regularly participates in and directs an interdisciplinary group of scientists and engineers specializing in risk assessment. She has over 20 years of experience working in the field of risk assessment and is currently the Editor-in-Chief of Risk Analysis: An International Journal. Previously, while employed by the EPA, Dr. Anderson founded the Agency's central risk assessment program, and directed it for 10 years. In this capacity, she served as the Executive Director of the EPA committee that initially adopted risk assessment as the basis for implementing the Agency's regulatory mandates. She also founded EPA's Carcinogen Assessment Group and the Office of Health and Environmental Assessment. Dr. Anderson received the EPA Gold Medal for exceptional service. She has participated in numerous risk-related panels and committees including those for inter-agency risk assessment initiatives, the National Academy of Sciences, and the National Cancer Institute. Dr. Anderson has worked extensively on international risk assessment issues to address human health and ecological consequences of exposure to environmental toxicants for organizations that include the World Health Organization and the Pan American Health Organization. She was President, Chief Executive Officer, and Chairman of the Board of Clement International Corporation and on the Board of Directors of ICF-Kaiser International. Dr. Anderson is a co-founder and past-President of the Society for Risk Analysis. She has participated in numerous national and international commissions and organizations concerned with risk based issues, and has lectured and published widely in the field of risk assessment.

2. Nominee. Crawford-Brown, Douglas, Ph.D., Professor, Departments of Environmental Sciences and Engineering and in Public Policy Analysis; also on the Resource Faculty of the Department of Philosophy; Chairman, Environmental Sciences and Studies Undergraduate Program; and Director, Carolina Environmental Program, University of North Carolina, Chapel Hill, NC.

i. Expertise. Environmental modeling, exposure assessment, risk assessment, and the application of scientific models in the assessment and selection of environmental policies.

ii. Education. B.S., M.S., and Ph.D., Physics and Nuclear Science, Georgia Institute of Technology.

iii. Professional experience. Dr. Crawford-Brown's teaching and research are in the areas of environmental modeling, exposure assessment, risk assessment, and the application of scientific models in the assessment and selection of environmental policies. His current research focuses on risk assessment in support of policy in water and air; on development of biomathematical models of human health risk following exposure to radionuclides, chemicals, and microbes; on dose reconstruction methodologies; and on the development of decision support systems to analyze risks from environmental contaminants. He has worked extensively in the field of exposure and dose assessment in support of epidemiological studies, with a primary focus on exposure to radionuclides and radiation. Dr. Crawford-Brown has written over 120 journal articles in his discipline, and has authored a series of books on environmental risk assessment: Theoretical and Mathematical Foundations of Human Health Risk Analysis (1997), Risk-Based Environmental Decisions: Methods and Culture (1999), and Mathematical Methods of Environmental Risk Modeling (2001). Dr. Crawford-Brown has served on a number of federal advisory committees for EPA, and currently serves as a Technical Advisor for the American Waterworks Association in the areas of risk and decisions. He has chaired, or has served as a member of a wide variety of national and international committees in areas related to risk and the environment, including those established by EPA, the World Trade Organization, the Department of Energy, NIH, the International Life Sciences Institute, and the Chemical Industry Institute of Toxicology.

3. Nominee. Frey, H. Christopher, Ph.D., Associate Professor, Department of Civil, Construction, and Environmental Engineering, North Carolina State University, Raleigh, NC.

i. Expertise. Quantification of variability and uncertainty, measurement, modeling and evaluation of energy and environmental control systems, and exposure and risk assessment.

ii. Education. B.S., Mechanical Engineering, University of Virginia; Master of Engineering, Mechanical Engineering, Carnegie-Mellon University; Ph.D., Engineering and Public Policy, Carnegie-Mellon University.

iii. Professional experience. Dr. Frey's research interests are primarily in: Development and demonstration of methods for quantification of variability and uncertainty; modeling and evaluation of energy and environmental control systems; measurement and modeling of real-world tailpipe emissions; and exposure and risk assessment. He has been a principal or co-principal investigator for 25 externally sponsored university research projects in these areas. Dr Frey has published 26 peer-reviewed journal papers, co-authored the book, Probabilistic Techniques in Exposure Assessment: A Handbook for Dealing with Variability and Uncertainty in Models and Inputs, authored three other book chapters and authored or co-authored numerous conference proceedings papers and technical reports. He has served as a reviewer for 14 journals, and as an external reviewer for 8 draft EPA reports, 2 USDA risk assessments, and a draft Food and Agriculture Organization (FAO)/World Health Organization (WHO) exposure assessment guideline. He has served in numerous advisory capacities for EPA including on the EPA's Scientific Advisory Panel and on the Science Advisory Board. Dr. Frey has participated in the development of guidance documents and handbooks, including chairing a workshop in 1998 that recommended methods for developing input distributions in probabilistic analysis, and a 2001 workshop that recommended approaches for sensitivity analysis applied to food safety risk models. Dr. Frey participated in international expert panels for the Intergovernmental Panel on Climate Change, pertaining to guidelines for uncertainty analysis, and for FAO/WHO regarding guidelines for probabilistic exposure assessment. Dr. Frey is active in the Society for Risk Analysis (SRA) and the Air and Waste Management Association (AWMA) and also is a member of the American Society of Civil Engineers. Formerly, he was president of the Research Triangle Chapter of SRA, a member of the SRA Council, and Chair of the AWMA's EE-1 Exposure and Health Effects Technical Committee. He is a recipient of a 1992 AAAS/EPA Fellowship, the 1992 AAAS Barnard Scholarship, a National Science Foundation CAREER award, and the SRA's 1999 Chauncy Starr Award for exceptional contributions to the field of risk analysis.

4. Nominee. Gray, George M., Ph.D., Executive Director, Harvard Center for Risk Analysis, Harvard School of Public Health, Boston, MA.

i. Expertise. Risk assessment, interpretation of rodent bioassays, risk management, risk communication.

ii. Education. B.S., Biology, University of Michigan; M.S. and Ph.D., Toxicology, University of Rochester.

iii. Professional experience. Dr. Gray's primary research interests are risk characterization and risk communication with a focus on food safety and agriculture and chemicals in the environment. He has published on both the scientific bases of human health risk assessment and its application to risk policy with a focus on risk/risk tradeoffs in risk management. Dr. Gray teaches toxicology and risk assessment to graduate students and to participants in the Continuing Professional Education Program at the Harvard School of Public Health. He serves on the Risk Assessment Task Force of the Society of Toxicology, and on government panels, including a Food and Drug Administration (FDA), Center for Food Safety and Applied Nutrition (CFSAN) Food Advisory Committee, and the NIEHS National Advisory Environmental Health Science Council.

5. Nominee. Zeise, Lauren, Ph.D., Chief, Reproductive and Cancer Hazard Assessment Section, Office of Environmental Health Hazard Assessment, California Environmental Protection Agency, Oakland, CA.

i. Expertise. Cancer and reproductive risk assessment methodologies and applications.

ii. Education. M.S. and Ph.D., Harvard University.

iii. Professional experience. Dr. Zeise has served as Chief of the Reproductive and Cancer Hazard Assessment Section since 1991, overseeing a variety of the State's cancer, reproductive, and ecological risk assessment activities. Dr. Zeise currently serves on the EPA Science Advisory Board Research Strategies Advisory Committee, on the National Institute of Medicine Board of Health Promotion and Disease Prevention, and on the NRC Board on Environmental Sciences and Toxicology. She is a member, fellow, and councilor of the Society of Risk Analysis and is on the editorial board of that society's journal. The National Cancer Institute Smoking and Tobacco Smoke monograph, Health Effects of Environmental Tobacco Smoke, was conceived and developed under her editorial direction. She is co-author and co-editor of the 1999 International Agency for Research on Cancer monograph Quantitative Estimation and Prediction of Cancer Risk. Dr. Zeise has served on the EPA Science Advisory Board Environmental Health Committee and Integrated Risk Project, and as a consultant to the Clean Air Act Scientific Advisory Committee, Environmental Engineering Committee, FIFRA Scientific Advisory Panel, EPA Board of Scientific Counselors, and on other ad hoc committees of EPA. She also has served on committees of the National Institute of Medicine, National Research Council, Consumer Product Safety Commission, National Toxicology Program, and the Office of Technology Assessment.

C. Nominations for the Field of Veterinary Pathology

1. Nominee. Chambers, Janice E., Ph.D., Director, Center for Environmental Health Sciences, and William L. Giles Distinguished Professor, College of Veterinary Medicine, Mississippi State University, MS.

i. Expertise. Pesticide toxicology, neurochemical and behavioral effects of pesticides, potential effects of pesticides on infants and children, mechanism of action and biotransformation of neurotoxicants and other xenobiotics, predictive modeling of the effects of mixtures.

ii. Education. B.S., Biology, University of San Francisco and Ph.D., Animal Physiology, Mississippi State University.

iii. Professional experience. Dr. Chambers directs several research projects that deal with the effects of pesticides in mammalian systems to determine the potential human health effects of pesticide exposures. Specifically, there are projects related to the neurochemical and behavioral effects of pesticides in developing organisms as well as the metabolism of pesticides in developing organisms to yield predictions about potential effects of pesticides in infants and children. Other Projects are involved in developing mathematical predictions of the effects of mixtures of pesticides on the nervous system so that predictive models can be generated to potentially describe the effects of future uncharacterized mixtures. Dr. Chambers has been the Principal Investigator for numerous federally funded competitive grants in the field of toxicology. Because of her expertise, she has been asked to serve on a number of advisory boards and prestigious committees. Dr. Chambers is board certified as a toxicologist by the American Board of Toxicology and the Academy of Toxicological Sciences. As Director of the Center for Environmental Health Sciences, she has developed an interdisciplinary research center specializing in pesticide toxicology and funded primarily by NIH. The center comprises the areas of neurotoxicology, biochemical toxicology, analytical chemistry, biostatistics, epidemiology, computational chemistry, computational simulation, biochemistry, and endocrinology.

2. Nominee. Dragan, Yvonne P., Ph.D., Program Director, Hepatotoxicology Center for Excellence, National Center for Toxicological Research, FDA, Jefferson, AR.

i. Expertise. Pharmacology, toxicology, carcinogenesis, mode of action, and human health risk assessment.

ii. Education. B.A., Biology, Smith College; Ph.D., Pharmacology and Toxicology, Medical College of Virginia.

iii. Professional experience. Dr. Dragan received her Ph.D. in Pharmacology and Toxicology from the Medical College of Virginia in 1988. She performed postdoctoral work in the Department of Oncology at the University of Wisconsin in Madison at the McArdle Laboratory for Cancer Research from 1988 until 1998. She was a member of the School of Public Health faculty at the Ohio State University from 1998 until 2001. Dr. Dragan is currently the Director of the Program in Hepatotoxicity at the National Center for Toxicological Research in Jefferson, AR. She has held her current position at NCTR since 2002 and is an adjunct Associate Professor in Pharmacology and Toxicology at the University of Arkansas for Medical Sciences.

3. Nominee. Haschek-Hock, Wanda M., Ph.D., Director, Graduate Training Program in Toxicologic Pathology and Professor, Comparative Pathology, Department of Veterinary Pathobiology, College of Veterinary Medicine, University of Illinois at Urbana-Champaign, Urbana, IL.

i. Expertise. Pathology, veterinary diagnostic and toxicologic; mycotoxicology.

ii. Education. B.V.Sc., University of Sydney; Ph.D., Veterinary Pathology, Cornell University.

iii. Professional experience. Dr. Haschek-Hock has 30 years of experience in diagnostic and toxicologic pathology including teaching, research, and service. Her research has been in pathophysiology of chemicals and natural toxins found in the environment. Her current research focus is mycotoxins and food safety. Dr. Haschek-Hock has over 100 scientific peer-reviewed publications in the fields of pathology and toxicology, and is senior editor of the Handbook of Toxicologic Pathology (1991, 2002), and Fundamentals of Toxicologic Pathology (1998). She developed and directs the Graduate Training Program in Toxicologic Pathology and the biannual international Continuing Education Course in Industrial Toxicology and Pathology. She was Head of the Department of Veterinary Pathology at the University of Illinois for 6 years. She has served as President of the Society of Toxicology's Comparative and Veterinary Specialty Section; on the Board of Directors of the American Board of Toxicology; as Associate Editor for Toxicological Sciences; as an Editorial Board member for Fundamental and Applied Toxicology, Veterinary Pathology, and Toxicologic Pathology. Dr. Haschek-Hock also has served as Councilor of the American College of Veterinary Pathologists and as Councilor and, currently, Secretary Treasurer of the Society of Toxicologic Pathology. She recently served on the FDA Veterinary Medicine Advisory Committee for the Center for Veterinary Medicine.

4. Nominee. Songer, J. Glenn, Ph.D., Professor, Department of Veterinary Science and Microbiology, University of Arizona, Tucson, AZ.

i. Expertise. Infectious disease epidemiology and diagnosis, pathogenesis of gram-positive bacterial infections, clostridial toxins, clostridial enteric disease.

ii. Education. B.S., Biology, Mid-America Nazarene College; M.A., Preventive Medicine, University of Texas Medical Branch; Ph.D., Veterinary Microbiology, Iowa State University.

iii. Professional experience. Dr. Songer's research has focused on two primary areas. The major emphasis at present is elucidation of the role of membrane active bacterial toxins in pathogenesis of animal disease. In addition, he has developed and applied in vitro methods, including rapid molecular approaches, to diagnosis of animal disease. Dr. Songer is a member of the American Society for Microbiology, the American Association of Veterinary Laboratory Diagnosticians, the Conference of Research Workers in Animal Disease, the U.S. Animal Health Association and is a Fellow of the American Academy of Microbiology. He has authored and co-authored numerous papers in his field during the past 20 years. He has served on numerous national and international panels on matters of interest in his field including committees and panels for USDA and NIH.

5. Nominee. Woods, Leslie Willis, D.V.M., Associate Professor, Clinical Diagnostic Pathology, California Animal Health and Food Safety Laboratory System, School of Veterinary Medicine, University of California, Davis, CA.

i. Expertise. Toxicology and infectious diseases in mammalian wildlife and avian species.

ii. Education. B.A., Chemistry, University of San Diego; D.V.M., University of California, Davis; Ph.D. in Comparative Pathology, University of California.

iii. Professional experience. Dr. Woods became a professor of clinical diagnostic pathology in 1997 and has a joint appointment at the California Animal Health and Food Safety Laboratory System and the Pathology, Microbiology, and Immunology Department in the School of Veterinary Medicine, University of California. Her research interests are in infectious diseases and toxicoses of wildlife and exotic and companion avian species, and infectious diseases of mammalian wildlife species. Dr. Woods discovered and described a new adenoviral hemorrhagic disease of deer that has been responsible for high mortality in the mule deer species in the western United States. Dr. Woods' other area of interest is toxicology. Her graduate research program included in vitro and in vivo studies using respiratory toxins. Dr. Woods has been a Diplomate of the American College of Veterinary Pathologists since 1993.

List of Subjects

Environmental protection, pesticides and pests.

Dated: November 3, 2003.
Joseph J. Merenda,
Director, Office of Science Coordination and Policy.

[FR Doc. 03-28217 Filed 11-7-03; 8:45 am]

BILLING CODE 6560-50-S